POSTAL SERVICE

39 CFR Parts 111 and 121

Combined Mailings of Standard Mail and Periodicals Flats

AGENCY: Postal Service.™

ACTION: Final rule; withdrawal.

SUMMARY: The Postal Service is withdrawing a final rule that would have provided a new option for mailers to combine mailings of Standard Mail ® flats and Periodicals flats within the same bundle, when placed on pallets, and to combine bundles of Standard Mail flats and bundles of Periodicals flats on the same pallet. The Postal Service also withdraws the Code of Federal Regulations revision to reflect that Standard Mail service standards apply to all Periodicals flats pieces entered in such combined mailings.

DATES: The final rule published on February 28, 2011 (76 FR 10757), is withdrawn effective March 24, 2011.

FOR FURTHER INFORMATION CONTACT: Jonathan Leon at 202-268-7443, or Kevin Gunther at 202-268-7208.

SUPPLEMENTARY INFORMATION: In a final rule published in the Federal Register on February 28, 2011, the Postal Service provided a new option for mailers to combine Standard Mail flats and Periodicals flats, when bundled and placed on pallets. Mailers using this option would have combined different-class mailpieces within the same bundle (comail), or combined separate same-class bundles (of different classes) on the same pallet (copalletize) to maximize presorting or to qualify for deeper destination entry discounts. All mailpieces prepared under this option were required to be bundled and placed on pallets.

In consideration of concerns expressed by members of the mailing community, the Postal Service has elected to withdraw this final rule and will publish these standards as a proposed rule concurrently.

The Postal Service also withdraws the revision to 39 CFR part 121.2 whereby we added a new item “c” to describe the USPS processing of Periodicals mailpieces included in combined mailings of Standard Mail flats and Periodicals flats, and specifying that Periodicals mailpieces included in these mailings will be assigned the service standards applicable to Standard Mail pieces.

Stanley F. Mires,
Chief Counsel, Legislative.

[FR Doc. 2011-6911 Filed 3-23-11; 8:45 am]

BILLING CODE 7710-12-P